DEPARTMENT OF HEALTH AND HUMAN SERVICES

National Institutes of Health

National Institute of Mental Health; Notice of Request for Information

Notice is hereby given of a Request for Information (RFI): Updating the Interagency Autism Coordinating Committee Strategic Plan for Autism Spectrum Disorder (ASD) Research, NOT-MH-10-025, issued by the National Institute of Mental Health on behalf of the Interagency Autism Coordinating Committee (IACC).

The purpose of this RFI is to request input from ASD stakeholders to inform the next update of the Strategic Plan in 2011. Please see the official RFI notice at http://grants.nih.gov/grants/guide/notice-files/NOT-MH-10-025.html for more information and instructions for responding by the deadline of July 30, 2010. All responses must be submitted electronically via the Web-based form found at http://www.acclaroresearch.com/oarc/2010rfi/.

Contact Person: Attention: RFI on Updating the Strategic Plan for ASD Research, Office of the Autism Research Coordination, National Institute of Mental Health, NIH, 6001 Executive Boulevard, Room 8185, Bethesda, MD 20892-9669, or e-mail IACCRFI@mail.nih.gov.

Information about the IACC is available on the Web site: http://iacc.hhs.gov.

Dated: June 25, 2010.
Jennifer Spaeth,
Director, Office of Federal Advisory Committee Policy.

[FR Doc. 2010-16035 Filed 6-30-10; 8:45 am]

BILLING CODE 4140-01-P